DEPARTMENT OF LABOR

Employment and Training Administration

Proposed Information Collection Request Submitted for Public Comment and Recommendations; Customer Survey

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed extension of the information collection of the Customer Survey, ETA 8562.

A copy of the proposed information collection request can be obtained by contacting the employee listed below in the contact section of this notice.

DATES: Written comments must be submitted on or before July 17, 2000. Written comments should evaluate whether the proposed collection of information is necessary for the proper performance of the functions of the agency, including whether the information will have practical utility; evaluate the accuracy of the agency's estimate of the burden of the proposed collection of information including the validity of the methodology and assumptions used; enhance the quality, utility, and clarity of the information to be collected; and minimize the burden of the collection of information on those who are to respond, including through the use of appropriate automated, electronic, mechanical, or other technological automated, electronic, mechanical or other technological collection techniques or other forms of information technology, e.g., permitting electronic submission of responses.

ADDRESSES: Edward A. Tomchick, Division of Trade Adjustment Assistance, Employment and Training Administration, Department of labor, Room C-4318, 200 Constitution Avenue, NW, Washington, DC 20210, 202-219-5555 (this is not a toll-free number).

SUPPLEMENTARY INFORMATION:

I. Background

The Division of Trade Adjustment Assistance is required under the Trade Act of 1974 to conduct investigations to determine whether increased imports have contributed importantly to actual or threatened decreases in employment at firms whose workers have petitioned for Trade Adjustment Assistance benefits. The Customer Survey is designed to provide information on which determinations are based.

II. Current Actions

This is a request for OMB approval under [the Paperwork Reduction Act of 1995 (44 U.S.C. 3506(c)(2)(A))] for a extension of collection of information previously approved and assigned OMB Control No. 1205-0190. There is no change in burden.

Type of Review: Extension without change.

Agency: Employment and Training Administration.

Title: Customer Survey.

OMB Number: 1205-0190.

Agency Number: ETA 8562.

Affected Public: Businesses.

Frequency: On occasion.

Number of Respondents: 2,220.

Estimated Time Per Resondent: 1.78 hours.

Total Burden Hours: 3,951.

Total Burden Cost (capital/startup): None.

Total Burden Cost (operating/maintaining): None.

Comments submitted in response to this notice will be summarized and/or included in the request for Office of Management and Budget approval of the information collection request; they will also become a matter of public record.

Dated: May 12, 2000.
Edward A. Tomchick,
Director, Division of Trade Adjustment Assistance.

[FR Doc. 00-12512 Filed 5-17-00; 8:45 am]

BILLING CODE 4510-30-M